DEPARTMENT OF DEFENSE

Department of the Army

Performance Review Board Membership

AGENCY: Department of the Army, DoD.

ACTION: Notice; correction.

SUMMARY: The notice of the names of members of a Performance Review Board for the Department of the Army published in the Federal Register on October 25, 2007 (72 FR 60662) has added two additional members.

DATES: Effective Date: September 30, 2007.

FOR FURTHER INFORMATION CONTACT: Lucrencia Murdock, Civilian Senior Leader Management Office, 140 Army Pentagon, Washington, DC 20310-0140.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Department of the Army Performance Review Boards are:

1. Dr. Grace M. Bochenek, Director, U.S. Army Tank automotive Research, Development and Engineering Center, U.S. Army Material Command.

2. Mr. George S. Dunlop, Principal Deputy Assistant Secretary of the Army (Civil Works)/Deputy Assistant Secretary of the Army (Legislation).

Brenda S. Bowen,
Army Federal Register Liaison Officer.

[FR Doc. 07-5522 Filed 11-5-07; 8:45 am]

BILLING CODE 3710-08-M